DEPARTMENT OF HEALTH AND HUMAN SERVICES

Administration for Children and Families

Proposed Information Collection Activity; Comment Request

Proposed Projects

Title: OBJECTIVE WORK PLAN, ANA Program Narrative, Application for Federal Assistance.

OMB No.: 0980-0204.

Description: The information collected by Program Narrative; Application for Federal Assistance, the Objective Work Plan, is needed to properly administer and monitor the Administration for Native Americans (ANA) Program's competitive areas—Social and Economic Development Strategies (SEDS), ANA Environmental Regulatory Enhancement, Native Language Preservation, and ANA Mitigation of Environmental Impacts to Indian Lands Due to Department of Defense Activities by providing information in an application for a grant award. This data is used by legislatively-mandated Native American review panels, and ANA, as the basis for recommendations for the decisions to award competitive ANA grants.

Respondents: Tribal Govt. Native non-profits, Tribal Colleges & Universities.

ANNUAL BURDEN ESTIMATES
Instrument | Number of respondents | Number of responses per respondent | Average burden hours per response | Total burden hours
OWP | 650 | 1 | 28 | 18,200

Estimated Total Annual Burden Hours: 18,200.

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: January 9, 2003.
Robert Sargis,
Reports Clearance Officer.

[FR Doc. 03-802 Filed 1-14-03; 8:45 am]

BILLING CODE 4184-01-M